DEPARTMENT OF TRANSPORTATION

Federal Motor Carrier Safety Administration

[Docket No. FMCSA-2023-0115]

Agency Information Collection Activities; Approval of an Information Collection Request: Commercial Driver Licensing and Testing Standards

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for review and approval. FMCSA requests approval to renew an ICR titled, “Commercial Driver Licensing and Test Standards.” This ICR is needed to ensure that drivers, motor carriers, and the States are complying with notification and recordkeeping requirements for information related to testing, licensing, violations, convictions, and disqualifications and that the information is accurate, complete, transmitted, and recorded within certain time periods as required by the Commercial Motor Vehicle Safety Act of 1986 (CMVSA or the Act), as amended.

DATES: Comments must be received on or before May 16, 2025.

ADDRESSES: Written comments and recommendations for the proposed information collection should be submitted within 30 days of publication of this notice to www.reginfo.gov/public/do/PRAMain. Find this information collection by selecting “Currently under 30-day Review—Open for Public Comments” or by using the search function.

FOR FURTHER INFORMATION CONTACT: Isabella Marra, Transportation Specialist, Office of Safety Programs, Commercial Driver's License Division, DOT, FMCSA, 1200 New Jersey Avenue SE, Washington, DC 20590-0001; 202-843-2454; isabella.marra@dot.gov.

SUPPLEMENTARY INFORMATION:

Title: Commercial Driver Licensing and Test Standards.

OMB Control Number: 2126-0011.

Type of Request: Renewal of a currently approved ICR.

Respondents: Drivers with a commercial learner's permit (CLP) or commercial driver's license (CDL) and State driver licensing agencies.

Estimated Number of Respondents: 7,748,964, consisting of 7,712,074 driver respondents and 36,890 State respondents.

Estimated Time per Response: Varies from 5 seconds to 40 hours.

Expiration Date: April 30, 2025.

Frequency of Response: Varies.

Estimated Total Annual Burden: 2,806,735, which is the total of four tasks for CDL drivers (2,067,271 hours), added to a total of eight tasks for State driver licensing agency CDL activities (739,464 hours).

Background: The licensed drivers in the United States deserve reasonable assurances that their fellow motorists are properly qualified to drive the vehicles they operate. Before the CMVSA (Pub. L. 99-570, Title XII, 100 Stat. 3207-170, codified at 49 U.S.C. chapter 313) was signed by the President on October 27, 1986, 18 States and the District of Columbia authorized any person licensed to drive an automobile to also legally drive a large truck or bus. No special training or special license was required to drive these vehicles, even though it was widely recognized that operation of certain types of vehicles called for special skills, knowledge, and training. Even in the 32 States that had a classified driver licensing system in place, only 12 of those States required an applicant to take a skills test in a representative vehicle. Equally serious was the problem of drivers possessing multiple driver's licenses. By spreading their convictions among several States, commercial motor vehicle (CMV) drivers could avoid punishment for their infringements and stay behind the wheel.

The CMVSA addressed these problems by requiring the Federal government to act and place minimum standards on all jurisdictions, including the District of Columbia. Section 12002 of the Act made it illegal for a CMV operator to have more than one driver's license. Section 12003 required the CMV driver conducting operations in commerce to notify both the designated State of licensure official and the driver's employer of any convictions of State or local laws relating to traffic control (except parking tickets). This section also required the promulgation of regulations to ensure each person who applies for employment as a CMV operator notifies prospective employers of all previous employment as a CMV operator for at least the previous 10 years. In section 12005 of the Act, the Secretary of Transportation (Secretary) is required to develop minimum Federal standards for testing and licensing of operators of CMVs. Section 12007 of the Act also directed the Secretary, in cooperation with the States, to develop a clearinghouse to aid the States in implementing the one driver, one license, and one driving record requirement. This clearinghouse is known as the Commercial Driver's License Information System. The CMVSA further required each person who has their CDL suspended, revoked, or canceled by a State, or who is disqualified from operating a CMV for any period, to notify his or her employer of such actions. Drivers of CMVs must notify their employers within 1 business day of being notified of the license suspension, revocation, and cancellation, or of the lost right to operate or disqualification. These requirements are reflected in 49 CFR part 383, titled “Commercial Driver's License Standards; Requirements and Penalties.” Specifically, § 383.21 prohibits a person from having more than one license; § 383.31 requires notification of convictions for driver violations; § 383.33 requires notification of driver's license suspensions; § 383.35 requires notification of previous employment; and § 383.37 outlines employer responsibilities. Section 383.111 requires the passing of a knowledge test by the driver and § 383.113 requires the passing of a skills test by the driver. Section 383.115 contains the requirement for the double/triple trailer endorsement; § 383.117 contains the requirement for the passenger endorsement; § 383.119 contains the requirement for the tank vehicle endorsement; and § 383.121 contains the requirement for the hazardous materials endorsement. The 10-year employment history information supplied by the CDL holder to the employer upon application for employment (§ 383.35) is used to assist the employer in meeting his/her responsibilities to ensure that the applicant does not have a history of high safety risk behavior. State officials use the information collected on the license application form (§ 383.71), the medical certificate information that is posted to the driving record, and the conviction and disqualification data posted to the driving record (§ 383.73) to prevent unqualified and/or disqualified CDL holders from operating CMVs on the nation's highways. State officials are required to adopt and administer an FMCSA approved program for testing and ensuring the fitness of persons to operate CMVs (§ 384.201). State officials are also required to administer knowledge and skills tests to CDL driver applicants (§ 384.202). The driver applicant is required to correctly answer at least 80 percent of the questions on each knowledge test to achieve a passing score on that test. To achieve a passing score on the skills test, the driver applicant must demonstrate that he/she can successfully perform all the skills listed in the regulations. During State CDL program reviews, FMCSA officials review this information to ensure that the provisions of the regulations are being carried out. Without the aforementioned requirements, there would be no uniform control over driver licensing practices to prevent unqualified and/or disqualified drivers from being issued a CDL and to prevent unsafe drivers from spreading their convictions among several licenses in several States and remaining behind the wheel of a CMV. Failure to collect this information would render the regulations unenforceable.

On February 2, 2024, FMCSA published an NPRM titled “Amendments to the Commercial Driver's License Requirements; Increased Flexibility for Testing and for Drivers After Passing the Skills Test” (89 FR 7327) with a 60-day comment period announcing its intention to seek OMB review and approval to update this ICR. The comment period closed on April 2, 2024, and 646 comments were received. In accordance with 5 CFR 1320.11, the NPRM served as the 60-day ICR notice. Because FMCSA has not yet finalized the NPRM, today's notice serves as the 30-day notice required under 5 CFR 1320.10, and it covers only the renewal of the existing information collection, not the revisions proposed in the NPRM.

FMCSA received one comment in reference to the original ICR itself, as opposed to the comments on the impacts of the NPRM on the ICR. That commenter, the National Propane Gas Association, stated they had no objections to the information collection requirements. Comments received in reference to the proposed changes in the NPRM are not included in this ICR, but will be addressed in the final rule, assuming a final rule is to be published.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Kenneth Riddle,
Acting Associate Administrator, Office of Research and Registration.

[FR Doc. 2025-06473 Filed 4-15-25; 8:45 am]

BILLING CODE 4910-EX-P